ENVIRONMENTAL PROTECTION AGENCY

[OPP-66286; FRL-6784-5]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations.

DATES: Unless a request is withdrawn by December 26, 2001, unless indicated otherwise, orders will be issued canceling all of these registrations.

FOR FURTHER INFORMATION CONTACT: By mail: James A. Hollins, Office of Pesticide Programs (7502C), Environmental Protection Agency, 1200 Pennsylvania Avenue, N.W., Washington, DC 20460. Office location for commercial courier delivery, telephone number and e-mail address: Rm. 224, Crystal Mall No. 2, 1921 Jefferson Davis Highway, Arlington, VA 22202, (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information or Copies of Support Documents?

1. Electronically. You may obtain electronic copies of this document and certain other related documents that might be available electronically, from the EPA Internet Home Page at http://www.epa.gov. To access this document, on the Home page select “Laws and Regulations” “Regulations and Proposed Rules,” and then look up the entry for this document under the “Federal Register—Environmental Documents.” You can also go directly to the Federal Register listing at (http://www.epa.gov/fedrgstr/).

2. In person. Contact James A. Hollins at 1921 Jefferson Davis Highway, Crystal Mall No. 2, Rm. 224, Arlington, VA, telephone number (703) 305-5761. Available from 7:30 a.m. to 4:45 p.m., Monday thru Friday, excluding legal holidays.

II. What Action is the Agency Taking?

This notice announces receipt by the Agency of applications from registrants to cancel some 40 pesticide products registered under section 3 or 24(c) of FIFRA. These registrations are listed in sequence by registration number (or company number and 24(c) number) in the following Table 1.

Table 1. — Registrations With Pending Requests for Cancellation
Registration No. | Product Name | Chemical Name
000100 OR-96-0030 | Supracide 25WP Insecticide-Miticide | O,O-Dimethyl phosphorodithioate, S-ester with 4-(mercaptomethyl)-2-
000241-00243 | Prowl Herbicide | N-(1-Ethylpropyl)-3,4-dimethyl-2,6-dinitrobenzenamine
000241-00305 | Stomp Herbicide | N-(1-Ethylpropyl)-3,4-dimethyl-2,6-dinitrobenzenamine
000241 OR-99-0015 | Raptor Herbicide | (+-)-2-(4,5-Dihydro-4-methyl-4-(1-methylethyl)-5-oxo-1H-imidazol-2-
000264-00319 | Temik TSX Granular Pesticide | Pentachloronitrobenzene
|  | 5-Ethoxy-3-(trichloromethyl)-1,2,4-thiadiazole
|  | 2-Methyl-2-(methylthio)propionaldehyde O-(methylcarbamoyl)oxime
000264-00459 | Mocap Plus Nematicide - Insecticide | O,O-Diethyl S-(2-(ethylthio)ethyl) phosphorodithioate
|  | O-Ethyl S,S-dipropyl phosphorodithioate
000279-03175 | Authority Bl Herbicide | 1,2,4-Triazin-5(4H)-one, 4-amino-6-(1,1-dimethylethyl)-3-(methylthio)-
|  | Methanesulfonamide, N-(2,4-dichloro-5-(4-(difluoromethyl)-4,5-
000432-00895 | Chipco Mocap Brand 10G GC | O-Ethyl S,S-dipropyl phosphorodithioate
001270-00243 | Zepynamic II Disinfectant Deodorant | Ethanol
|  | 2-Benzyl-4-chlorophenol
|  | 4-tert-Amylphenol
|  | o-Phenylphenol
001448-00101 | Busan 1072 | 2-(Thiocyanomethylthio)benzothiazole
|  | Methylene bis(thiocyanate)
001448-00178 | M-10-2 | 2-(Thiocyanomethylthio)benzothiazole
|  | Methylene bis(thiocyanate)
001448-00179 | M-10-1 | 2-(Thiocyanomethylthio)benzothiazole
|  | Methylene bis(thiocyanate)
002217-00839 | Vertagreen for Proffessional Use Betasan 7-G | S-(O,O-Diisopropyl phosphorodithioate) ester of N-(2-mercaptoethyl)benzenesulfonamide
002217-00840 | Betasan 2.9-E | S-(O,O-Diisopropyl phosphorodithioate) ester of N-(2-mercaptoethyl)benzenesulfonamide
002935-00362 | Red-Top Di-Syston 6.5% Systemic W/pcnb Soil Fungicide G | O,O-Diethyl S-(2-(ethylthio)ethyl) phosphorodithioate
|  | Pentachloronitrobenzene
002935-00499 | Solve LV Ester 6 | Acetic acid, (2,4-dichlorophenoxy)-, 2-ethylhexyl ester
003008-00079 | Osmose Cyproconazole | alpha-(4-Chlorophenyl)-alpha-(1-cyclopropylethyl)-1H-1,2,4-triazole-1-ethanol
003234-00036 | Super Pax Crabgrass Control with Betasan | S-(O,O-Diisopropyl phosphorodithioate) ester of N-(2-mercaptoethyl)benzenesulfonamide
005383-00073 | Troysan Polyphase P-15h | 3-Iodo-2-propynyl butylcarbamate
005383-00078 | Woodsman Solid Color Oil Stain | Bis(tributyltin) oxide
|  | 3-Iodo-2-propynyl butylcarbamate
005383-00083 | Troysan Polyphase GWP-1 Wood Preservative Clear | 3-Iodo-2-propynyl butylcarbamate
005383-00087 | Real-Wood Wood Preservative | 3-Iodo-2-propynyl butylcarbamate
007969-00062 | Ronilan Fl Fungicide | 3-(3,5-Dichlorophenyl)-5-ethenyl-5-methyl-2,4-oxazolidinedione
007969 SC-90-0006 | Ronilan FL | 3-(3,5-Dichlorophenyl)-5-ethenyl-5-methyl-2,4-oxazolidinedione
009688-00094 | Chemsico Systemic Rose & Flower Care | O,O-Diethyl S-(2-(ethylthio)ethyl) phosphorodithioate
009779-00310 | Triallate EC Herbicide | S-(2,3,3-Trichloroallyl) diisopropylthiocarbamate
010163 MT-01-0001 | Gowan Endosulfan 3EC | 6,7,8,9,10-Hexachloro-1,5,5a,6,9,9a-hexahydro-6,9-methano-2,4,3-benzodioxathiepin-3-oxide
019713 WA-97-0022 | Drexel Carbaryl 4L | 1-Naphthyl-N-methylcarbamate
028293-00277 | Unicorn Systemic Insecticide Granules | O,O-Diethyl S-(2-(ethylthio)ethyl) phosphorodithioate
033955-00489 | Systemic Insecticide contains Di-Syston | O,O-Diethyl S-(2-(ethylthio)ethyl) phosphorodithioate
033955-00490 | Acme 2% Systemic Granular | O,O-Diethyl S-(2-(ethylthio)ethyl) phosphorodithioate
049585-00028 | K Gro Systemic Rose & Flower Care | O,O-Diethyl S-(2-(ethylthio)ethyl) phosphorodithioate
050534 OR-00-0024 | Daconil SDG | Tetrachloroisophthalonitrile
058185-00016 | Koban 1.3 G | 5-Ethoxy-3-(trichloromethyl)-1,2,4-thiadiazole
058185-00019 | Koban Flowable | 5-Ethoxy-3-(trichloromethyl)-1,2,4-thiadiazole
058185-00020 | Truban Flowable | 5-Ethoxy-3-(trichloromethyl)-1,2,4-thiadiazole
064005-00007 | Pur Explorer (Advance Formula) | Iodine
064005-00008 | Pur Scout (Advance Formula) | Iodine
064005-00009 | Pur Voyager | Iodine
069838-00001 | Afrotin BWB | 5-Chloro-2-methyl-3(2H)-isothiazolone
|  | 2-Methyl-3(2H)-isothiazolone

Unless a request is withdrawn by the registrant within 180 days (30 days when requested by registrant) of publication of this notice, orders will be issued canceling all of these registrations. Users of these pesticides or anyone else desiring the retention of a registration should contact the applicable registrant during this comment period.

The following Table 2, includes the names and addresses of record for all registrants of the products in Table 1, in sequence by EPA company number.

Table 2. — Registrants Requesting Voluntary Cancellation
EPA Company No. | Company Name and Address
000100 | Syngenta Crop Protection, Inc., Box 18300, Greensboro, NC 27419.
000241 | BASF Corp., Box 400, Princeton, NJ 08543.
000264 | Aventis Cropscience USA LP, 2 T.W. Alexander Drive, Box 12014, Research Triangle Park, NC 27709.
000279 | FMC Corp., Agricultural Products Group, 1735 Market St, Philadelphia, PA 19103.
000432 | Aventis Environmental Science USA LP, 95 Chestnut Ridge Rd., Montvale, NJ 07645.
001270 | ZEP Mfg. Co., Box 2015, Atlanta, GA 30301.
001448 | Buckman Laboratories Inc., 1256 North Mclean Blvd, Memphis, TN 38108.
002217 | PBI/Gordon Corp., Attn: Craig Martens, Box 014090, Kansas City, MO 64101.
002935 | Wilbur Ellis Co., 191 W Shaw Ave, #107, Fresno, CA 93704.
003008 | Osmose Inc., 980 Ellicott St, Buffalo, NY 14209.
003234 | Martin Resources, Inc., Pax Division, Box 191, Kilgore, TX 75663.
005383 | Lewis & Harrison, Agent For: Troy Chemical Corp., 122 C St NW, Ste. 740, Washington, DC 20001.
007969 | BASF Corp., Agricultural Products, Box 13528, Research Triangle Park, NC 27709.
009688 | Chemsico, Div of United Industries Corp., Box 142642, St Louis, MO 63114.
009779 | Agriliance, LLC, Box 64089, St Paul, MN 55164.
010163 | Gowan Co, Box 5569, Yuma, AZ 85366.
019713 | Drexel Chemical Co, 1700 Channel Ave., Box 13327, Memphis, TN 38113.
028293 | Unicorn Laboratories, 12385 Automobile Blvd., Clearwater, FL 33762.
033955 | PBI/Gordon Corp., Attn: Craig Martens, Box 014090, Kansas City, MO 64101.
049585 | Alljack, Division of United Industries Corp., Box 142642, St Louis, MO 63114.
050534 | GB Biosciences Corp., 410 Swing Rd., Box 18300, Greensboro, NC 27419.
058185 | Scotts-Sierra Crop Protection Co, Attn: Vincent Snyder, Jr, 14111 Scottslawn Rd, Marysville, OH 43041.
064005 | Pur Water Purification, Inc., c/o Procter & Gamble, 11810 E. Miami River Rd., Cinicnnati, OH 45202.
069838 | Keller & Heckman LLC, Agent For: Schill & Seilacher, 1001 G St, NW, Suite 500 W., Washington, DC 20001.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for cancellation must submit such withdrawal in writing to James A. Hollins, at the address given above, postmarked before December 26, 2001, unless indicated otherwise. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1-year after the date the cancellation request was received by the Agency. This policy is in accordance with the Agency's statement of policy as prescribed in Federal Register of June 26, 1991 (56 FR 29362) (FRL 3846-4). Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Agricultural commodities, Pesticides and pests.

Dated: June 12, 2001.
Richard D. Schmitt,
Associate Director, Information Resources and Services Division, Office of Pesticide Programs.

[FR Doc. 01-16443 Filed 6-28-01; 8:45 a.m.]

BILLING CODE 6560-50-S